DEPARTMENT OF THE TREASURY

Office of Foreign Assets Control

Blocking and Addition to the Specially Designated Nationals and Blocked Persons List of Three Individuals and One Entity Pursuant to Executive Order 13469

AGENCY: Office of Foreign Assets Control, Treasury.

ACTION: Notice.

SUMMARY: The Treasury Department's Office of Foreign Assets Control (“OFAC”) is publishing the names of three individuals and one entity whose property and interests in property have been blocked pursuant to Executive Order 13469 “Blocking Property of Additional Persons Undermining Democratic Processes or Institutions in Zimbabwe.”

DATES: The blocking and addition to the list of Specially Designated Nationals and Blocked Persons (“SDN List”) of the three individuals and one entity identified in this notice was effective as of April 17, 2014.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treasury.gov/ofac) or via facsimile through a 24-hour fax-on-demand service, tel.: 202/622-0077.

Background

On March 6, 2003, the President, invoking the authority of, inter alia, the International Emergency Economic Powers Act (50 U.S. C. 1701-06) (“IEEPA”) issued Executive Order 13288 (68 FR 11457, March 10, 2003). In Executive Order 13288, the President declared a national emergency to deal with the threat posed by the actions and policies of certain members of the Government of Zimbabwe and other persons to undermine Zimbabwe's democratic processes or institutions, contributing to the deliberate breakdown in the rule of law in Zimbabwe, to politically motivated violence and intimidation in that country, and to political and economic instability in the southern African region.

On July 25, 2008, the President found that the continued actions and policies of the Government of Zimbabwe and other persons to undermine Zimbabwe's democratic processes or institutions to commit acts of violence and other human rights abuses against political opponents, and to engage in public corruption, including by misusing public authority, constitute an unusual and extraordinary threat to the foreign policy of the United States and issued Executive Order 13469. Executive Order 13469 authorized the Secretary of the Treasury, in consultation with the Secretary of State, to designate additional persons determined to meet the criteria set forth therein.

On April 17, 2014, the Acting Director of OFAC, in consultation with the State Department, determined that the individuals and entity identified below met the criteria of Executive Order 13469 and, accordingly, blocked their property and interests in property and added them to the SDN List.

Individuals

1. PA, Sam (a.k.a. HUI, Samo; a.k.a. JINGHUA, Xu; a.k.a. KING, Sam; a.k.a. KYUNG-WHA, Tsui; a.k.a. LEUNG, Ghiu Ka; a.k.a. MENEZES, Antonio Famtosonghiu Sampo); DOB 28 Feb 1958; nationality China; citizen Angola; alt. citizen United Kingdom; Passport C234897(0) (United Kingdom) (individual) [ZIMBABWE].

2. ZERENIE, Jimmy; nationality Singapore; Passport E0840452D (Singapore); Identification Number 264/2005 (Singapore) (individual) [ZIMBABWE].

3. MUDEDE, Tobaiwa (a.k.a. “TONNETH”); DOB 22 Dec 1942; Registrar General (individual) [ZIMBABWE].

Entity

1. SINO ZIM DEVELOPMENT (PVT) LTD (a.k.a. SINO ZIM HOLDINGS (PVT) LTD; a.k.a. SINO ZIMBABWE COTTON HOLDINGS), 3rd Floor, Livingstone House, 48 Samora Machel Avenue, Harare, Zimbabwe; PO Box 7520, Harare, Zimbabwe; Telephone: (04) 710043 [ZIMBABWE].

Dated: May 22, 2014.
Adam J. Szubin,
Director, Office of Foreign Assets Control.

[FR Doc. 2014-14112 Filed 6-16-14; 8:45 am]

BILLING CODE 4810-AL-P